NUCLEAR REGULATORY COMMISSION

[NRC-2021-0152]

Monthly Notice; Applications and Amendments to Facility Operating Licenses and Combined Licenses Involving No Significant Hazards Considerations

AGENCY: Nuclear Regulatory Commission.

ACTION: Monthly notice.

SUMMARY: Pursuant to the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from July 14, 2021, to July 22, 2021. The last monthly notice was published on July 13, 2021.

DATES: Comments must be filed by September 9, 2021. A request for a hearing or petitions for leave to intervene must be filed by October 12, 2021.

ADDRESSES: You may submit comments by any of the following methods, however, the NRC encourages electronic comment submission through the Federal Rulemaking website:

• Federal Rulemaking website: Go to https://www.regulations.gov and search for Docket ID NRC-2021-0152. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Karen Zeleznock, Office of Nuclear Reactor Regulation, U.S. Nuclear Regulatory Commission, Washington, DC 20555-0001, telephone: 301-415-1118, email: Karen.Zeleznock@nrc.gov.

SUPPLEMENTARY INFORMATION:

I. Obtaining Information and Submitting Comments

A. Obtaining Information

Please refer to Docket ID NRC-2021-0152, facility name, unit number(s), docket number(s), application date, and subject when contacting the NRC about the availability of information for this action. You may obtain publicly available information related to this action by any of the following methods:

• Federal Rulemaking website: Go to https://www.regulations.gov and search for Docket ID NRC-2021-0152.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking website (https://www.regulations.gov). Please include Docket ID NRC-2021-0152, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the Guidance for Electronic Submissions to the NRC (ADAMS Accession No. ML13031A056) and on the NRC website at https://www.nrc.gov/site-help/e-submittals.html.

To comply with the procedural requirements of E-Filing, at least 10 days prior to the filing deadline, the participant should contact the Office of the Secretary by email at hearing.docket@nrc.gov, or by telephone at 301-415-1677, to (1) Request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system timestamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The table in this notice provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Duke Energy Carolinas, LLC; Catawba Nuclear Station, Units 1 and 2; York County, SC; Duke Energy Carolinas, LLC; McGuire Nuclear Station, Units 1 and 2; Mecklenburg County, NC; Duke Energy Carolinas, LLC; Oconee Nuclear Station, Units 1, 2, and 3; Oconee County, SC; Duke Energy Progress, LLC; H. B. Robinson Steam Electric Plant, Unit No. 2; Darlington County, SC
Docket No(s). | 50-413, 50-414, 50-369, 50-370, 50-269, 50-270, 50-287, 50-261.
Application date | June 9, 2021, as supplemented by letter dated July 16, 2021.
ADAMS Accession No. | ML21160A008, ML21197A046.
Location in Application of NSHC | Pages 10-12 of the Enclosure.
Brief Description of Amendment(s) | The proposed change would delete second Completion Times from the affected Required Actions contained in Technical Specifications (TSs), along with removing the example contained in TS Section 1.3 and adding a discussion about alternating between Conditions. These changes are consistent with NRC-approved Traveler Technical Specification Task Force (TSTF) Traveler TSTF-439, Revision 2, “Eliminate Second Completion Times Limiting Time From Discovery of Failure to Meet an LCO [Limiting Condition for Operation].”
Proposed Determination | NSHC.
Name of Attorney for Licensee, Mailing Address | Michelle Spak, General Counsel, Duke Energy Corporation, 550 South Tryon St.—DEC45A, Charlotte, NC 28202.
NRC Project Manager, Telephone Number | Andrew Hon, 301-415-8480.
Entergy Operations, Inc.; Arkansas Nuclear One, Unit 1; Pope County, AR
Docket No(s). | 50-313.
Application date | May 26, 2021.
ADAMS Accession No. | ML21147A234.
Location in Application of NSHC | Pages 26-28 of Enclosure 1.
Brief Description of Amendment(s) | The proposed amendment would modify the licensing basis by the addition of a license condition to allow for the implementation of the provisions of 10 CFR 50.69, “Risk-informed categorization and treatment of structures, systems and components for nuclear power reactors,” for Arkansas Nuclear One, Unit 1. These provisions would allow adjustment of the scope of equipment subject to special treatment controls (e.g., quality assurance, testing, inspection, condition monitoring, assessment, and evaluation). For equipment determined to be of low safety significance, alternative treatment requirements could be implemented in accordance with this regulation.
Proposed Determination | NSHC.
Name of Attorney for Licensee, Mailing Address | Anna Vinson Jones, Senior Counsel, Entergy Services, Inc.,101 Constitution Avenue NW, Suite 200 East, Washington, DC 20001.
NRC Project Manager, Telephone Number | Thomas Wengert, 301-415-4037.
Entergy Operations, Inc.; Arkansas Nuclear One, Unit 2; Pope County, AR
Docket No(s). | 50-368.
Application date | May 26, 2021.
ADAMS Accession No. | ML21147A264.
Location in Application of NSHC | Pages 27-28 of Enclosure 1.
Brief Description of Amendment(s) | The proposed amendment would modify the licensing basis by the addition of a license condition to allow for the implementation of the provisions of 10 CFR 50.69, “Risk-informed categorization and treatment of structures, systems and components for nuclear power reactors,” for Arkansas Nuclear One, Unit 2. These provisions would allow adjustment of the scope of equipment subject to special treatment controls (e.g., quality assurance, testing, inspection, condition monitoring, assessment, and evaluation). For equipment determined to be of low safety significance, alternative treatment requirements could be implemented in accordance with this regulation.
Proposed Determination | NSHC.
Name of Attorney for Licensee, Mailing Address | Anna Vinson Jones, Senior Counsel, Entergy Services, Inc.,101 Constitution Avenue NW, Suite 200 East, Washington, DC 20001.
NRC Project Manager, Telephone Number | Thomas Wengert, 301-415-4037.
Entergy Operations, Inc.; Arkansas Nuclear One, Units 1 and 2; Pope County, AR; Entergy Operations, Inc.; Waterford Steam Electric Station, Unit 3; St. Charles Parish, LA
Docket No(s). | 50-313, 50-368, 50-382.
Application date | July 1, 2021.
ADAMS Accession No. | ML21182A158.
Location in Application of NSHC | Pages 3-5 of Enclosure 1.
Brief Description of Amendment(s) | The proposed amendments would revise technical specifications (TSs) to adopt Technical Specifications Task Force (TSTF) Traveler TSTF-577, Revision 1, “Revised Frequencies for Steam Generator Tube Inspections” for Arkansas Nuclear One, Units 1 and 2, and Waterford Steam Electric Station, Unit 3. The TSs related to steam generator (SG) tube inspections and reporting are revised based on operating history. The proposed changes would revise the TSs related to SG tube inspection and reporting requirements in the administration controls section of the TSs. TSTF-577 would revise the TSs related to SG tube inspections to extend the inspection interval for thermally treated Alloy 600 and thermally treated Alloy 690 SG tubing. The NRC issued a final safety evaluation approving TSTF-577, Revision 1, on April 14, 2021 (ADAMS Package Accession No. ML21099A086).
Proposed Determination | NSHC.
Name of Attorney for Licensee, Mailing Address | Anna Vinson Jones, Senior Counsel, Entergy Services, Inc.,101 Constitution Avenue NW, Suite 200 East, Washington, DC 20001.
NRC Project Manager, Telephone Number | Siva Lingam, 301-415-1564.
Exelon Generation Company, LLC; Limerick Generating Station, Units 1 and 2; Montgomery County, PA
Docket No(s). | 50-352, 50-353.
Application date | March 11, 2021, as supplemented by letter dated May 5, 2021.
ADAMS Accession No. | ML21070A412, ML21125A215.
Location in Application of NSHC | Pages 20-22 of the Enclosure.
Brief Description of Amendment(s) | The proposed amendments would modify the licensing basis by revising the license condition in Appendix C to allow the use of an alternate defense-in-depth categorization process, an alternate pressure boundary categorization process, and an alternate Seismic Tier 1 categorization process to allow the implementation of risk-informed categorization and treatment of structures, systems and components in accordance with 10 CFR 50.69.
Proposed Determination | NSHC.
Name of Attorney for Licensee, Mailing Address | Tamra Domeyer, Associate General Counsel, Exelon Generation Company, LLC, 4300 Winfield Road, Warrenville, IL 60555.
NRC Project Manager, Telephone Number | V. Sreenivas, 301-415-2597.
Exelon Generation Company, LLC; R. E. Ginna Nuclear Power Plant; Wayne County, New York
Docket No(s). | 50-244.
Application date | May 20, 2021.
ADAMS Accession No. | ML21140A324.
Location in Application of NSHC | Pages 5-6 of the Enclosure.
Brief Description of Amendment(s) | The proposed amendment would modify technical specification (TS) requirements to allow the use of Risk-Informed Completion Times in accordance with Technical Specifications Task Force (TSTF) Traveler TSTF-505, Revision 2, “Provide Risk-Informed Extended Completion Times—RITSTF [Risk-Informed TSTF] Initiative 4b” (ADAMS Accession No. ML18183A493). This would change the TS requirements related to Completion Times (CTs) for Required Actions (Action allowed outage times) to provide the option to calculate a longer, risk-informed CT.
Proposed Determination | NSHC.
Name of Attorney for Licensee, Mailing Address | Tamra Domeyer, Associate General Counsel, Exelon Generation Company, LLC, 4300 Winfield Road, Warrenville, IL 60555.
NRC Project Manager, Telephone Number | V. Sreenivas, 301-415-2597.
Exelon Generation Company, LLC; R. E. Ginna Nuclear Power Plant; Wayne County, New York
Docket No(s). | 50-244.
Application date | May 20, 2021.
ADAMS Accession No. | ML21141A009.
Location in Application of NSHC | Pages 29-31 of the Enclosure.
Brief Description of Amendment(s) | The proposed amendment would modify the licensing basis, by the addition of a license condition, to allow for the implementation of the provisions of 10 CFR 50.69, “Risk-informed categorization and treatment of structures, systems and components for nuclear power reactors.” The provisions of 10 CFR 50.69 allow adjustment of the scope of equipment subject to special treatment controls (e.g., quality assurance, testing, inspection, condition monitoring, assessment, and evaluation).
Proposed Determination | NSHC.
Name of Attorney for Licensee, Mailing Address | Tamra Domeyer, Associate General Counsel, Exelon Generation Company, LLC, 4300 Winfield Road, Warrenville, IL 60555.
NRC Project Manager, Telephone Number | V. Sreenivas, 301-415-2597.
PSEG Nuclear LLC; Salem Nuclear Generating Station, Units 1 and 2; Salem County, NJ
Docket No(s). | 50-272, 50-311.
Application date | June 17, 2021.
ADAMS Accession No. | ML21173A090.
Location in Application of NSHC | Pages 5-7 of the Enclosure.
Brief Description of Amendment(s) | The proposed changes would revise the Salem Unit No. 2 Technical Specification (TS) Table 4.3-2 Functional Unit 8.f, “Auxiliary Feedwater—Trip of Main Feedwater Pumps,” Channel Functional Test surveillance frequency and the Mode in which Salem Unit No.1 TS Table 4.3-2 Functional Unit 8.f, “Auxiliary Feedwater—Trip of Main Feedwater Pumps” is required; and remove Salem Unit No. 2 Surveillance Requirement 4.7.1.3.4 to verify the service water spool piece is onsite.
Proposed Determination | NSHC.
Name of Attorney for Licensee, Mailing Address | Jodi Varon, PSEG Services Corporation, 80 Park Plaza, T-5, Newark, NJ 07102.
NRC Project Manager, Telephone Number | James Kim, 301-415-4125.
Southern Nuclear Operating Company, Inc.; Joseph M Farley Nuclear Plant, Units 1 and 2; Houston County, AL; Southern Nuclear Operating Company, Inc.; Vogtle Electric Generating Plant, Units 1 and 2; Burke County, GA
Docket No(s). | 50-348, 50-364, 50-424, 50-425.
Application date | June 9, 2021.
ADAMS Accession No. | ML21160A257.
Location in Application of NSHC | Pages E-12 through E-13 of the Enclosure.
Brief Description of Amendment(s) | The proposed amendments would revise Technical Specification (TS) 3.1.7, “Rod Position Indication”; TS 3.2.1, “Heat Flux Hot Channel Factor (FQ(Z))”; and TS 3.3.1, “Reactor Trip System (RTS) Instrumentation,” to allow the use of an alternate means of determining power distribution information. The proposed TS changes would allow the use of a dedicated on-line core power distribution monitoring system (PDMS) to perform surveillance of core thermal limits. The PDMS to be used at Joseph M. Farley Nuclear Plant, Units 1 and 2; and Vogtle Electric Generating Plant, Units 1 and 2, is the Westinghouse proprietary core analysis system called Best Estimate Analyzer for Core Operations—Nuclear.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Tennessee Valley Authority; Watts Bar Nuclear Plant, Units 1 and 2; Rhea County, TN
Docket No(s). | 50-390, 50-391.
Application date | June 1, 2021.
ADAMS Accession No. | ML21153A071.
Location in Application of NSHC | Pages E7-E9 of the Enclosure.
Brief Description of Amendment(s) | The proposed amendments would revise Watts Bar Nuclear Plant, Units 1 and 2, Technical Specification (TS) 3.3.6, “Containment Ventilation Isolation Instrumentation,” and TS 3.3.7, “Control Room Emergency Ventilation System (CREVS) Actuation Instrumentation,” to delete a redundant unit of measure associated with containment purge exhaust and control room air intake radiation monitors.
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.
Wolf Creek Nuclear Operating Corporation; Wolf Creek Generating Station, Unit 1; Coffey County, KS
Docket No(s). | 50-482.
Application date | May 25, 2021.
ADAMS Accession No. | ML21145A238.
Location in Application of NSHC | Pages 12-13 of Attachment 1.
Brief Description of Amendment(s) | The proposed amendment would revise the Emergency Plan related to on-shift staffing for Wolf Creek Generating Station, Unit 1.
Proposed Determination | NSHC.
Name of Attorney for Licensee, Mailing Address | Thomas C. Poindexter, Morgan, Lewis and Bockius LLP, 1111 Pennsylvania Avenue NW, Washington, DC 20004-2541.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22 “Criterion for categorical exclusion; identification of licensing and regulatory actions eligible for categorical exclusion or otherwise not requiring environmental review.” Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Dominion Energy South Carolina, Inc.; Virgil C. Summer Nuclear Station, Unit 1, Fairfield County, SC
Docket No(s) | 50-395.
Amendment Date | June 30, 2021.
ADAMS Accession No | ML21112A108.
Amendment No(s) | 219.
Brief Description of Amendment(s) | The amendment revised Technical Specification 6.9.1.11, “Core Operating Limits Report [COLR],” to add the Westinghouse Topical Report WCAP 16996 P A, Revision 1, “Realistic LOCA [Loss-of-Coolant Accident] Evaluation Methodology Applied to the Full Spectrum of Break Sizes (FULL SPECTRUM LOCA Methodology),” to the list of NRC approved analytical methodologies approved for reference in the COLR.
Public Comments Received as to Proposed NSHC (Yes/No) | No.
Energy Harbor Nuclear Corp. and Energy Harbor Nuclear Generation LLC; Perry Nuclear Power Plant, Unit No. 1; Lake County, OH
Docket No(s) | 50-440.
Amendment Date | July 12, 2021.
ADAMS Accession No | ML21158A212.
Amendment No(s) | 194.
Brief Description of Amendment(s) | The amendment revised Technical Specification 3.8.3, “Diesel Fuel Oil, Lube Oil, and Starting Air,” by removing Surveillance Requirement 3.8.3.6 and placing it under licensee control. The changes are consistent with Technical Specifications Task Force (TSTF) Traveler TSTF 002, Revision 1, “Relocate the 10 Year Sediment Cleaning of the Fuel Oil Storage Tank to Licensee Control.”
Public Comments Received as to Proposed NSHC (Yes/No) | No.
Entergy Louisiana, LLC, and Entergy Operations, Inc.; River Bend Station, Unit 1; West Feliciana Parish, LA
Docket No(s) | 50-458.
Amendment Date | July 2, 2021.
ADAMS Accession No | ML21162A211.
Amendment No(s) | 208.
Brief Description of Amendment(s) | The amendment revised License Condition 2.C.(10), “Fire Protection (Section 9.5.1, SER [Safety Evaluation Report] and SSER [Supplement to Original SER] 3),” by replacing the current wording with standard wording from Generic Letter 86-10, “Implementation of Fire Protection Requirements,” and deleted Attachment 4, “Fire Protection Program Requirements,” from the River Bend Station, Unit 1 Renewed Facility Operating License.
Public Comments Received as to Proposed NSHC (Yes/No) | No.
Exelon Generation Company, LLC; Braidwood Station, Units 1 and 2, Will County, IL
Docket No(s) | 50-456, 50-457.
Amendment Date | July 13, 2021.
ADAMS Accession No | ML21154A046.
Amendment No(s) | 222 (Unit 1) and 222 (Unit 2).
Brief Description of Amendment(s) | The amendments revised Technical Specification Surveillance Requirement 3.7.9.2 to allow an ultimate heat sink temperature of less than or equal to 102.8 degrees Fahrenheit through September 30, 2021.
Public Comments Received as to Proposed NSHC (Yes/No) | No.
Exelon Generation Company, LLC; Clinton Power Station, Unit No. 1; DeWitt County, IL
Docket No(s) | 50-461.
Amendment Date | June 28, 2021.
ADAMS Accession No | ML21132A288.
Amendment No(s) | 238.
Brief Description of Amendment(s) | The amendment modified the technical specifications to permit the use of risk-informed completion times in accordance with Technical Specifications Task Force (TSTF) Traveler TSTF-505, Revision 2, “Provide Risk Informed Extended Completion Times—RITSTF [Risk-Informed TSTF] Initiative 4b.”
Public Comments Received as to Proposed NSHC (Yes/No) | No.
Exelon Generation Company, LLC; LaSalle County Station, Units 1 and 2; LaSalle County, IL
Docket No(s) | 50-373, 50-374.
Amendment Date | July 13, 2021.
ADAMS Accession No | ML21158A228.
Amendment No(s) | 250 (Unit 1) and 236 (Unit 2).
Brief Description of Amendment(s) | The amendments modified technical specification (TS) requirements in TS 3.7.3, “Ultimate Heat Sink (UHS),” as follows: (1) TS 3.7.3, Condition A, was modified to remove reference to the UHS bottom elevation limit; (2) TS 3.7.3, Condition B, was deleted; (3) TS Figure 3.7.3-1 diurnal curve was modified; (4) Surveillance Requirement (SR) 3.7.3.1 was modified to correct a discrepancy in the TS and allow proper application of TS 3.7.3; (5) Sedimentation Level in SR 3.7.3.2 was modified from 18 inches to 6 inches; and (6) SR 3.7.3.3 was deleted.
Public Comments Received as to Proposed NSHC (Yes/No) | No.
Holtec Decommissioning International, LLC; Oyster Creek Nuclear Generating Station; Forked River, NJ
Docket No(s) | 50-219.
Amendment Date | June 25, 2021.
ADAMS Accession No | ML21119A056 (Package).
Amendment No(s) | 299.
Brief Description of Amendment(s) | NRC issued Amendment No. 299 to Renewed Facility Operating License No. DPR-16 for the Oyster Creek Nuclear Generating Station (Oyster Creek). The amendment consisted of revisions to the Renewed Facility Operating License and the Permanently Defueled Technical Specifications. These changes reflected the removal of all spent nuclear fuel from the spent fuel pool and its transfer to dry cask storage within an on-site Independent Spent Fuel Storage Installation (ISFSI). These changes will more fully reflect the permanently shutdown status of the decommissioning facility, as well as the reduced scope of structures, systems, and components necessary to ensure plant safety now that all spent fuel has been permanently moved to the Oyster Creek ISFSI, an activity which was completed as of May 21, 2021 (ADAMS Accession No. ML21160A065).
Public Comments Received as to Proposed NSHC (Yes/No) | No.
Holtec Decommissioning International, LLC; Oyster Creek Nuclear Generating Station; Forked River, NJ
Docket No(s) | 50-219.
Amendment Date | June 25, 2021.
ADAMS Accession No | ML21159A242 (Package).
Amendment No(s) | 300.
Brief Description of Amendment(s) | The NRC issued the Amendment No. 300 to Renewed Facility Operating License No. DPR-16 for the Oyster Creek Nuclear Generating Station (Oyster Creek). The amendment replaced the Oyster Creek Permanently Defueled Emergency Plan and associated Permanently Defueled Emergency Action Level (EAL) Technical Bases Document with an Independent Spent Fuel Storage Installation Only Emergency Plan and associated EAL scheme. These changes will more fully reflect the permanently shutdown status of the decommissioning facility, as well as the complete removal of all fuel from the spent fuel pool and permits specific reductions in the size and makeup of the Emergency Response Organization due to the elimination of the design basis accident related to the spent fuel (fuel handling accident).
Public Comments Received as to Proposed NSHC (Yes/No) | No.
Holtec Decommissioning International, LLC; Oyster Creek Nuclear Generating Station; Forked River, NJ
Docket No(s) | 50-219.
Amendment Date | June 25, 2021.
ADAMS Accession No | ML21176A155.
Amendment No(s) | 301.
Brief Description of Amendment(s) | The amendment to Renewed Facility Operating License No. DPR-16 for the Oyster Creek Nuclear Generating Station (Oyster Creek) reflected the requirements associated with the security changes set forth in the revised Oyster Creek Security Plan, Training and Qualification Plan, and Safeguards Contingency Plan (the Plan) for the independent spent fuel storage installation (ISFSI) only configuration, consistent with the permanent removal of all spent fuel from the spent fuel pool which occurred on May 21, 2021. Implementation of the changes also required the installation or modification of those security structures, systems, and components necessary to support the ISFSI-only plan. Additionally, the implementation of the proposed changes required appropriate security measures to be in place during the transition from the current Plan to the ISFSI-only plan.
Public Comments Received as to Proposed NSHC (Yes/No) | No.
NextEra Energy Point Beach, LLC; Point Beach Nuclear Plant, Units 1 and 2; Manitowoc County, WI
Docket No(s) | 50-266, 50-301.
Amendment Date | July 21, 2021.
ADAMS Accession No | ML21148A255.
Amendment No(s) | 269 (Unit 1) and 271 (Unit 2).
Brief Description of Amendment(s) | The amendments modified the technical specifications to implement new surveillance methods for nuclear transient heat flux hot channel factor. The new surveillance methods are applicable to plants using either relaxed axial offset control (RAOC) or constant axial offset control (CAOC) surveillance formulations, as described in the NRC-approved topical report WCAP-17661-P-A, “Improved RAOC and CAOC FQ Surveillance Technical Specifications.”
Public Comments Received as to Proposed NSHC (Yes/No) | No.
Northern States Power Company; Monticello Nuclear Generating Plant; Wright County, MN
Docket No(s) | 50-263.
Amendment Date | July 12, 2021.
ADAMS Accession No | ML21148A274.
Amendment No(s) | 206.
Brief Description of Amendment(s) | The amendment revised technical specification requirements to permit the use of risk-informed completion times for actions to be taken when limiting conditions for operation are not met. The changes are based on Technical Specifications Task Force (TSTF) Traveler TSTF-505, Revision 2, “Provide Risk-Informed Extended Completion Times—RITSTF [Risk-Informed TSTF] Initiative 4b.”
Public Comments Received as to Proposed NSHC (Yes/No) | No.
PSEG Nuclear LLC; Salem Nuclear Generating Station, Unit Nos. 1 and 2; Salem County, NJ
Docket No(s) | 50-272, 50-311.
Amendment Date | July 19, 2021.
ADAMS Accession No | ML21110A052.
Amendment No(s) | 337 (Unit No. 1) and 318 (Unit No. 2).
Brief Description of Amendment(s) | The amendments replaced the current technical specification (TS) limit on the reactor coolant system (RCS) gross specific activity with a new limit on RCS noble gas specific activity. The noble gas specific activity is based on a new dose equivalent xenon-133 definition that replaced the current E-Bar average disintegration energy definition. The proposed changes are consistent with NRC-approved Technical Specifications Task Force (TSTF) Traveler, TSTF-490, Revision 0, “Deletion of E Bar Definition and Revision to RCS Specific Activity Tech Spec.”
Public Comments Received as to Proposed NSHC (Yes/No) | No.
Southern Nuclear Operating Company, Inc.; Joseph M Farley Nuclear Plant, Units 1 and 2; Houston County, AL
Docket No(s) | 50-348, 50-364.
Amendment Date | June 30, 2021.
ADAMS Accession No | ML21137A247.
Amendment No(s) | 233 (Unit 1) and 230 (Unit 2).
Brief Description of Amendment(s) | The amendments modified the Joseph M. Farley Nuclear Plant, Units 1 and 2, licensing basis, by the addition of a license condition, to allow for the implementation of the provisions of 10 CFR 50.69, “Risk-informed categorization and treatment of structures, systems and components for nuclear power reactors.”
Public Comments Received as to Proposed NSHC (Yes/No) | No.
Tennessee Valley Authority; Watts Bar Nuclear Plant, Unit 2; Rhea County, TN
Docket No(s) | 50-391.
Amendment Date | June 24, 2021.
ADAMS Accession No | ML21161A239.
Amendment No(s) | 54.
Brief Description of Amendment(s) | The amendment revised the Watts Bar Nuclear Plant Updated Final Safety Analysis Report, for Unit 2 only, to apply a temperature adjustment to the voltage growth rate calculation used to determine the end-of-cycle distribution of indications in axial outer diameter stress corrosion cracking at tube support plates in support of the Unit 2 operational assessment for its steam generators.
Public Comments Received as to Proposed NSHC (Yes/No) | No.
Wolf Creek Nuclear Operating Corporation; Wolf Creek Generating Station, Unit 1; Coffey County, KS
Docket No(s) | 50-482.
Amendment Date | July 20, 2021.
ADAMS Accession No | ML21095A192.
Amendment No(s) | 229.
Brief Description of Amendment(s) | The amendment consisted of changes to the Renewed Facility Operating License No. NPF-42 to reflect a corporate name change for the owner licensee names for Kansas Gas and Electric Company to Evergy Kansas South, Inc., and Kansas City Power & Light Company to Evergy Metro, Inc.
Public Comments Received as to Proposed NSHC (Yes/No) | No.

IV. Notice of Issuance of Amendment to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendments involve NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the following table. The safety evaluation will provide the ADAMS accession number(s) for the application for amendment and the Federal Register citation for any environmental assessment. All of these items can be accessed as described in the “Obtaining Information and Submitting Comments” section of this document.

License Amendment Issuance—Exigent/Emergency Circumstances
Pacific Gas and Electric Company; Diablo Canyon Power Plant, Unit 1; San Luis Obispo County, CA
Docket No(s) | 50-275.
Amendment Date | July 8, 2021.
ADAMS Accession No | ML21188A345.
Amendment No(s) | 238.
Brief Description of Amendment(s) | The amendment provided a new Technical Specification 3.7.8 Condition A note, to allow a one-time Completion Time of 144 hours to replace the Auxiliary Saltwater System Pump 1-1 motor during Cycle 23.
Local Media Notice (Yes/No) | No.
Public Comments Requested as to Proposed NSHC (Yes/No) | No.

Dated: August 4, 2021.
For the Nuclear Regulatory Commission.
Michael I. Dudek,
Deputy Director, Division of Operating Reactor Licensing, Office of Nuclear Reactor Regulation.

[FR Doc. 2021-16925 Filed 8-9-21; 8:45 am]

BILLING CODE 7590-01-P